DEPARTMENT OF AGRICULTURE

Agricultural Research Service

Notice of Intent To Grant Exclusive License

AGENCY: Agricultural Research Service, USDA.

ACTION: Notice of intent.

SUMMARY: Notice is hereby given that the U.S. Department of Agriculture, Forest Service, intends to grant to Wisconsin Alumni Research Foundation of Madison, Wisconsin, an exclusive license to the Federal Government's patent rights in U.S. Patent No. 7,501,275, “Yeast Transformation System”, issued on March 10, 2009.

DATES: Comments must be received on or before February 23, 2011.

ADDRESSES: Send comments to: Janet I. Stockhausen, USDA, Forest Service, Forest Products Laboratory, One Gifford Pinchot Drive, Madison, Wisconsin 53726-2398.

FOR FURTHER INFORMATION CONTACT: Janet I. Stockhausen of the USDA Forest Service at the address given above; telephone: 608-231-9502; fax: 608-231-9508; or e-mail: jstockhausen@fs.fed.us.

SUPPLEMENTARY INFORMATION: The Federal Government's patent rights in this invention are assigned to the United States of America, as represented by the Secretary of Agriculture. It is in the public interest to so license this invention as Wisconsin Alumni Research Foundation of Madison, Wisconsin has submitted a complete and sufficient application for a license. The prospective exclusive license will be royalty-bearing and will comply with the terms and conditions of 35 U.S.C. 209 and 37 CFR 404.7. The prospective exclusive license may be granted unless, within thirty (30) days from the date of this published Notice, the Forest Service receives written evidence and argument which establishes that the grant of the license would not be consistent with the requirements of 35 U.S.C. 209 and 37 CFR 404.7.

Richard J. Brenner,
Assistant Administrator.

[FR Doc. 2011-1334 Filed 1-21-11; 8:45 am]

BILLING CODE 3410-03-P